NATIONAL CREDIT UNION ADMINISTRATION

Sunshine Act Meetings

TIME AND DATE: 10:00 a.m., Thursday, November 18, 2021.

PLACE: Due to the COVID-19 Pandemic, the meeting will be open to the public via live webcast only. Visit the agency's homepage (www.ncua.gov) and access the provided webcast link.

STATUS: This meeting will be open to the public.

MATTERS TO BE CONSIDERED:

1. Board Briefing, Share Insurance Quarterly Report.

2. NCUA's 2022-2026 Strategic Plan.

3. NCUA Rules and Regulations, Service Facilities.

4. Board Briefing, NCUA's Modernized Examination Tools.

5. Board Briefing, Update to NCUA's Response to the COVID-19 Pandemic.

CONTACT PERSON FOR MORE INFORMATION: Melane Conyers-Ausbrooks, Secretary of the Board, Telephone: 703-518-6304.

Melane Conyers-Ausbrooks,
Secretary of the Board.

[FR Doc. 2021-25032 Filed 11-12-21; 11:15 am]

BILLING CODE 7535-01-P